DEPARTMENT OF TRANSPORATION

Federal Highway Administration

Environmental Impact Statement; Washoe County, NV

AGENCY: Federal Highway Administration (FHWA), DOT.

ACTION: Notice of Intent.

SUMMARY: The FHWA is issuing this notice to advise the public that an Environmental Impact Statement will be prepared for a proposed highway project in Washoe County, NV.

FOR FURTHER INFORMATION CONTACT: Mr. Abdelmoez Abdalla, Environmental Project Manager, Federal Highway Administration, 705 North Plaza Street, Suite 220, Carson City, Nevada 89701-0602, Telephone: (775) 687-1231; Mr. Steve Cooke, Chief, Environmental Service Division, Nevada Department of Transportation (NDOT), 1263 S. Stewart Street, Carson City, Nevada 89712, Telephone: (775) 888-7686; or Mr. Doug Maloy, Project Manager, Regional Transportation Commission (RTC), 1105 Terminal Way, Suite 108, Reno, Nevada 89502, Telephone: (775) 335-1865.

SUPPLEMENTARY INFORMATION: The FHWA, in cooperation with the NDOT, will prepare an Environmental Impact Statement (EIS) on a proposal to improve Pyramid Way (SR 44) from Queen Way to Calle de la Plata Drive and a proposal for a new corridor from Vista Boulevard to US-395 near the Parr/Dandini Interchange in Washoe County, Nevada. The FHWA will serve as the Lead Federal agency while the NDOT and the RTC will serve as Joint Lead Agencies. The new SAFETEA-LU environmental review process will be followed.

The purpose of the proposed project is to address regional mobility, congestion, and safety challenges faced by motorists and pedestrians that travel Pyramid highway to Spanish Springs and Pyramid Lake. Improvements to the existing corridor (Pyramid Highway) are considered necessary to provide for the existing and projected traffic demand. There will be a “No Build Alternative” and “Build Alternatives” developed that may include improvements to existing Pyramid Highway from Queen Way to Calle de la Plata and a possible new roadway between US-395 and Vista Boulevard.

Letters describing the proposed action and soliciting comments will be sent to appropriate Federal, State, and local agencies, and to private organizations and citizens who have previously expressed or are known to have interest in this proposal. A formal scoping meeting will be held later this year or early next year. Public notice will be given of the time and place of the meeting.

To ensure that the full range of issues related to this proposed action are addressed and all significant issues identified, comments, and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Authority: 42 U.S.C. 4321 et seq., 49 CFR 1.48(d)(17), and 40 CFR 1501.7.

Issued on: February 20, 2008.
Susan E. Klekar,
Division Administrator, Federal Highway Administration, Nevada Division, Carson City, Nevada.

[FR Doc. 08-885 Filed 2-28-08; 8:45 am]

BILLING CODE 4910-22-M